DEPARTMENT OF THE TREASURY

Internal Revenue Service

Open Meeting of the Area 7 Taxpayer Advocacy Panel (Including the State of California)

AGENCY: Internal Revenue Service (IRS) Treasury.

ACTION: Notice.

SUMMARY: An open meeting of the Area 7 committee of the Taxpayer Advocacy Panel will be conducted in San Francisco, CA. The Taxpayer Advocacy Panel (TAP) is soliciting public comments, ideas, and suggestions on improving customer service at the Internal Revenue Service. The TAP will use citizen input to make recommendations to the Internal Revenue Service.

DATES: The meeting will be held Wednesday, August 4, 2004 and Thursday, August 5, 2004.

FOR FURTHER INFORMATION CONTACT: Mary Peterson O'Brien at 1-888-912-1227, or 206-220-6096.

SUPPLEMENTARY INFORMATION: Notice is hereby given pursuant to Section 10(a)(2) of the Federal Advisory Committee Act, 5 U.S.C. App. (1988) that an open meeting of the Area 7 Taxpayer Advocacy Panel will be held Wednesday, August 4, 2004 from 1 p.m. Pacific Time to 4 p.m. Pacific Time and Thursday, August 5, 2004 from 8 a.m. Pacific Time to 4 p.m. Pacific Time at 55 Cyril Magnin Street, San Francisco, CA, 94102. The public is invited to make oral comments. Individual comments will be limited to 5 minutes. If you would like to have the TAP consider a written statement, please call 1-888-912-1227 or 206-220-6096, or write to Mary Peterson O'Brien, TAP Office, 915 2nd Avenue, MS W-406, Seattle, WA 98174 or you can contact us at www.improveirs.org. Due to limited space, notification of intent to participate in the meeting must be made with Mary Peterson O'Brien. Ms. O'Brien can be reached at 1-888-912-1227 or 206-220-6096.

The agenda will include the following: Various IRS issues.

Dated: July 1, 2004.
Bernard Coston,
Director, Taxpayer Advocacy Panel.

[FR Doc. 04-15420 Filed 7-6-04; 8:45 am]

BILLING CODE 4830-01-U